DEPARTMENT OF HOMELAND SECURITY

Federal Emergency Management Agency

[Docket ID FEMA-2017-0002; Internal Agency Docket No. FEMA-B-1765]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Dated: November 29, 2017.
Roy E. Wright,
Deputy Associate Administrator for Insurance and Mitigation, Department of Homeland Security, Federal Emergency Management Agency.

State and county | Location and case No. | Chief executive officer of community | Community map repository | Online location of letter of map revision | Date of modification | Community No.
Arizona: Maricopa | Unincorporated Areas of Maricopa County (17-09-0882P) | The Honorable Denny Barney, Chairman, Board of Supervisors, Maricopa County, 301 West Jefferson Street, 10th Floor, Phoenix, AZ 85003 | Flood Control District of Maricopa County, 2801 West Durango Street, Phoenix, AZ 85009 | https://msc.fema.gov/portal/advanceSearch | Feb. 9, 2018 | 040037
California: San Diego | City of Oceanside (17-09-0650P) | The Honorable Jim Wood, Mayor, City of Oceanside, 300 North Coast Highway, Oceanside, CA 92054 | City Hall, 300 North Coast Highway, Oceanside, CA 92054 | https://msc.fema.gov/portal/advanceSearch | Feb. 12, 2018 | 060294
Idaho: Canyon | Unincorporated Areas of Canyon County (17-10-1537P) | Mr. Tom Dale, Commissioner, Canyon County, 1115 Albany Street Room 350, Caldwell, ID 83605 | Canyon County Courthouse, 1115 Albany Street, Caldwell, ID 83605 | https://msc.fema.gov/portal/advanceSearch | Jan. 31, 2018 | 160208
Illinois:
Will | Village of Mokena, (17-05-6107P) | The Honorable Frank A. Fleischer, Village President, Village of Mokena, 11004 Carpenter Street, Mokena, IL 60448 | Village Hall 11004 Carpenter Street Mokena, IL 60448 | https://msc.fema.gov/portal/advanceSearch | Feb. 9, 2018 | 170705
Winnebago | Unincorporated Areas of Winnebago County. (17-05-5139P) | The Honorable Frank Haney, Chairman, Winnebago County Board, Administration Building, 404 Elm Street, Room 533, Rockford, IL 61101 | Winnebago County Courthouse, 404 Elm Street, Rockford, IL 61101 | https://msc.fema.gov/portal/advanceSearch | Jan. 30, 2018 | 170720
Winnebago | Village of Cherry Valley (17-05-5139P) | The Honorable Jim E. Claeyssen, Village President, Village of Cherry Valley, 806 East State Street, Cherry Valley, IL 61016 | Village Hall, 806 East State Street, Cherry Valley, IL 61016 | https://msc.fema.gov/portal/advanceSearch | Jan. 30, 2018 | 170721
Minnesota:
Hennepin | City of Champlin (17-05-3893P) | The Honorable Ryan Karasek, Mayor, City of Champlin, City Hall, 11955 Champlin Drive, Champlin, MN 55316 | City Hall, Building Department, 11955 Champlin Road, Champlin, MN 55316 | https://msc.fema.gov/portal/advanceSearch | Feb. 16, 2018 | 270153
Hennepin | City of Corcoran (17-05-3730P) | The Honorable Ron Thomas, Mayor, City of Corcoran, City Hall, 8200 County Road 116, Corcoran, MN 55340 | City Hall, 8200 County Road 116, Corcoran, MN 55340 | https://msc.fema.gov/portal/advanceSearch | Feb. 9, 2018 | 270155
Nevada:
Clark | City of Henderson (17-09-1773P) | The Honorable Debra March, Mayor, City of Henderson, City Hall, 240 South Water Street, Henderson, NV 89015 | Public Works Department, 240 South Water Street, Henderson, NV 89015 | https://msc.fema.gov/portal/advanceSearch | Feb. 12, 2018 | 320005
Clark | City of Henderson (17-09-1937P) | The Honorable Debra March, Mayor, City of Henderson, City Hall, 240 South Water Street, Henderson, NV 89015 | Public Works Department, 240 South Water Street, Henderson, NV 89015 | https://msc.fema.gov/portal/advanceSearch | Feb. 6, 2018 | 320005
Clark | City of Las Vegas (17-09-1166P) | The Honorable Carolyn B. Goodman, Mayor, City of Las Vegas, City Hall, 495 South Main Street, Las Vegas, NV 89101 | Public Works Department, 400 Stewart Avenue, 4th Floor, Las Vegas, NV 89101 | https://msc.fema.gov/portal/advanceSearch | Feb. 5, 2018 | 325276
New York:
Onondaga | Town of Marcellus (17-02-1132P) | Ms. Karen Pollard, Town Supervisor, Town of Marcellus, 24 East Main Street, Marcellus, NY 13108 | Town Hall, 24 East Main Street, Marcellus, NY 13108 | https://msc.fema.gov/portal/advanceSearch | Mar. 20, 2018 | 360585
Onondaga | Village of Marcellus (17-02-1132P) | The Honorable John P. Curtin, Mayor, Village of Marcellus, 6 Slocombe Avenue, Marcellus, NY 13108 | Village Hall, 6 Slocombe Avenue, Marcellus, NY 13108 | https://msc.fema.gov/portal/advanceSearch | Mar. 20, 2018 | 360586
Ohio:
Lucas | City of Toledo (17-05-3511P) | The Honorable Paula Hicks-Hudson, Mayor, City of Toledo, 1 Government Center Suite 2200, Toledo, OH 43604 | Department of Inspection, 1 Government Center Suite 1600, Toledo, OH 43604 | https://msc.fema.gov/portal/advanceSearch | Feb. 9, 2018 | 395373
Lucas | Unincorporated Areas of Lucas County (17-05-3511P) | Mr. Pete Gerken, President, Board of County Commissioners, 1 Government Center Suite 800, Toledo, OH 43604 | Lucas County Engineer's Office, 1049 South McCord Road, Holland, OH 43528 | https://msc.fema.gov/portal/advanceSearch | Feb. 9, 2018 | 390359
Oregon: Jackson | Unincorporated Areas of Jackson County (17-10-1310P) | Ms. Colleen Roberts, Commissioner, Jackson County, Jackson County Courthouse, 10 South Oakdale Avenue, Room 214, Medford, OR 97501 | Jackson County Development Services, 10 South Oakdale Avenue, Medford, OR 97501 | https://msc.fema.gov/portal/advanceSearch | Jan. 22, 2018 | 415589
Texas:
Denton | City of Carrollton (17-06-3083P) | The Honorable Kevin Falconer, Mayor, City of Carrollton, P.O. Box 110535, Carrollton, TX 75011 | City Hall, 1945 East Jackson Road, Carrollton, TX 75006 | https://msc.fema.gov/portal/advanceSearch | Feb. 12, 2018 | 480167
Denton | City of Lewisville (17-06-3083P) | The Honorable Rudy Durham, Mayor, City of Lewisville, P.O. Box 299002, Lewisville, TX 75029 | City Hall, 1197 West Main Street, Lewisville, TX 75067 | https://msc.fema.gov/portal/advanceSearch | Feb. 12, 2018 | 480195
Wisconsin:
Washington | City of Hartford (17-05-4823P) | The Honorable Joseph Dautermann, Mayor, City of Hartford, 109 North Main Street, Hartford, WI 53027 | City Hall, 109 North Main Street, Hartford, WI 53027 | https://msc.fema.gov/portal/advanceSearch | Feb. 7, 2018 | 550473
Washington | Unincorporated Areas of Washington County (17-05-4823P) | Mr. Rick J. Gundrum, Chairperson, Washington County, 432 East Washington Street, Suite 3029, West Bend, WI 53095 | Washington County Government Center, 432 East Washington Street, West Bend, WI 53095 | https://msc.fema.gov/portal/advanceSearch | Feb. 7, 2018 | 550471

[FR Doc. 2017-26812 Filed 12-12-17; 8:45 am]

BILLING CODE 9110-12-P